DEPARTMENT OF LABOR

Employment and Training Administration

[TA-W-71,806]

Actel Corporation, Currently Known as Microsemi Corporation, Including On-Site Leased Workers From ATR International, Accountants, Inc. and Accountant Temps Mountain View, CA; Amended Certification Regarding Eligibility To Apply for Worker Adjustment Assistance

In accordance with Section 223 of the Trade Act of 1974, as amended (“Act”), 19 U.S.C. 2273, the Department of Labor issued a Certification of Eligibility to Apply for Worker Adjustment Assistance on September 17, 2009, applicable to workers of Actel Corporation, including on-site leased workers from ATR International, Accountants, Inc., and Accountant Temps, Mountain View, California. The notice was published in the Federal Register November 5, 2009 (74 FR 57338).

At the request of the State agency, the Department reviewed the certification for workers of the subject firm. The workers are engaged in the production of field programmable arrays.

New information shows that on November 2, 2010, Actel Corporation was purchased by Microsemi Corporation and is currently known as Microsemi Corporation. Workers separated from employment at Actel Corporation had their wages reported under a separate unemployment insurance (UI) tax account under the name Microsemi Corporation.

Accordingly, the Department is amending this certification to properly reflect this matter.

The intent of the Department's certification is to include all workers of the Actel Corporation, currently known as Microsemi Corporation, who were adversely affected by a shift in the production of field programmable arrays to China.

The amended notice applicable to TA-W-71,806 is hereby issued as follows:

All workers of Actel Corporation, currently known as Microsemi Corporation, including on-site leased workers from ATE International, Accountants, Inc., and Accountant Temps, Mountain View, California, who became totally or partially separated from employment on or after July 23, 2008 through September 17, 2011, and all workers in the group threatened with total or partial separation from employment on date of certification through two years from the date of certification, are eligible to apply for adjustment assistance under Chapter 2 of Title II of the Trade Act of 1974, as amended.

Signed at Washington, DC this 10th day of November 2010.
Elliott S. Kushner,
Certifying Officer, Division of Trade Adjustment Assistance.

[FR Doc. 2010-29096 Filed 11-17-10; 8:45 am]

BILLING CODE 4510-FN-P